DEPARTMENT OF LABOR

Office of the Secretary

Specific Delegation of Authority to the Deputy Assistant Secretary for Employment and Training

On February 13, 2009, I issued a memorandum to the Deputy Assistant Secretary for Employment and Training, delegating to him authority to enter into and terminate an agreement with any state or state agency to act as an agent of the United States to carry out provisions of the American Recovery and Reinvestment Act of 2009 related to federal additional compensation benefits. This delegation is effective immediately. A copy of that memorandum is annexed hereto as an Appendix.

FOR FURTHER INFORMATION CONTACT: Cheryl Atkinson, Director, Office of Workforce Security, Employment and Training Administration, 200 Constitution Ave., NW., Washington, DC 20210, telephone (202) 693-3172. This is not a toll-free number.

Signed at Washington, DC this 13th day of February, 2009.
Edward C. Hugler,
Acting Secretary of Labor.

Memorandum for: Douglas F. Small, Deputy Assistant Secretary, Employment and Training Administration.

From: Edward C. Hugler, Acting Secretary.

Subject: Specific Delegation of Authority to the Deputy Assistant Secretary for Employment and Training.

I hereby delegate to you, as Deputy Assistant Secretary for Employment and Training, the authority to enter into and terminate an agreement with any state or state agency to act as an agent of the United States to carry out provisions of the American Recovery and Reinvestment Act of 2009 related to federal additional compensation benefits. This delegation, which amends Secretary's Order 3-2009 (January 9, 2009), shall take effect immediately and shall remain in effect until superseded, but no later than March 31, 2009.

[FR Doc. E9-3642 Filed 2-19-09; 8:45 am]

BILLING CODE 4510-FW-P